DEPARTMENT OF TRANSPORTATION

National Highway Traffic Safety Administration

[Docket No. NHTSA-2012-0107; Notice 2]

The Goodyear Tire & Rubber Company, Mootness of Petition for Decision of Inconsequential Noncompliance

AGENCY: National Highway Traffic Safety Administration, DOT.

ACTION: Notice of Petition Mootness.

SUMMARY: The Goodyear Tire & Rubber Company (Goodyear),¹ has determined that certain Goodyear brand tires manufactured between April 8, 2012 and May 12, 2012, do not fully comply with paragraph S5.5(c)&(d) of Federal Motor Vehicle Safety Standard (FMVSS) No. 139, New Pneumatic Radial Tires for Light Vehicles. Goodyear has filed an appropriate report dated July 20, 2012, pursuant to 49 CFR part 573, Defect and Noncompliance Responsibility and Reports.

¹ The Goodyear Tire & Rubber Company is a manufacturer of tires and is registered under the laws of the state of Ohio.

Pursuant to 49 U.S.C. 30118(d) and 30120(h) (see implementing rule at 49 CFR part 556), Goodyear submitted a petition for an exemption from the notification and remedy requirements of 49 U.S.C. Chapter 301 on the basis that this noncompliance is inconsequential to motor vehicle safety. Notice of receipt of Goodyear's petition was published, with a 30-day public comment period, on December 3, 2012, in the Federal Register (77 FR 71678). One comment was received from Goodyear stating that after further review it now believes that it filed the petition in error because the described condition is not a noncompliance. To view the petition and all supporting documents log onto the Federal Docket Management System Web site at: http://www.regulations.gov/. Then follow the online search instructions to locate docket number “NHTSA-2012-0107.”

FOR FURTHER INFORMATION CONTACT: For further information on this decision, contact Mr. Abraham Diaz, Office of Vehicle Safety Compliance, the National Highway Traffic Safety Administration (NHTSA), telephone (202)366-5310, facsimile (202) 366-7002.

Tires Involved: Affected are approximately 1,692 Goodyear Wrangler AT/S, size LT 275/65R18 brand tires manufactured between April 8, 2012, and May 12, 2012 at its plant in Gadsden, Alabama.

Summary of Goodyear's Analyses: Goodyear's original analysis contended that there was a noncompliance with 49 CFR 571.139 paragraph S5.5(c)&(d) because the subject tires were labeled “LR-E/Max Load 3415 lbs Max Pressure 80 psi” instead of Goodyear's intended label “LR-C/Max Load 2535 lbs Max Pressure 50 psi.”

Goodyear also asserted that the perceived noncompliance was inconsequential as it relates to motor vehicle safety for the following reasons:

1. The subject tires meet or exceed all applicable FMVSS performance standards for a tire labeled as either load range “E” or “C”.

2. All other markings related to tire service (load capacity, corresponding inflation pressure, etc…) are also correct for the mislabeled tires.

3. The subject tires are identical to the intended LR-C tire with the exception of the sidewall labeling, and therefore, do not present a safety concern.

Goodyear has additionally informed NHTSA that it has corrected future production and that all other tire labeling information is correct.

In the comment that Goodyear posted to the petition docket, it contends that after further research that it now believes that a noncompliance does not exist.

In summation, Goodyear now states that its original determination that there is a noncompliance in the subject tires as described in the subject petition was in error and that its petition, to exempt it from providing recall notification of noncompliance as required by 49 U.S.C. 30118 and remedying the recall noncompliance as required by 49 U.S.C. 30120 was unnecessary.

NHTSA Decision: Inconsequential noncompliance petitions filed under 49 CFR Part 556 are valid only in situations where there is a noncompliance with a Federal motor vehicle safety standard (FMVSS.) In its comment to the petition docket Goodyear explained that it now believes that the described condition is not a noncompliance. Based on Goodyear's description of the subject tire labeling issue NHTSA has determined that, while Goodyear may not have labeled the tires as it originally intended, the tire sidewall labeling issue described in the subject petition is not a noncompliance with FMVSS No. 139 because the tire as labeled conforms to all applicable labeling and performance requirements of FMVSS No. 139. Therefore, this petition is moot and no further action on the petition is warranted.

Authority: (49 U.S.C. 30118, 30120: delegations of authority at CFR 1.95 and 501.8)

Issued on: August 27, 2013.
Claude H. Harris,
Director, Office of Vehicle Safety Compliance.

[FR Doc. 2013-21307 Filed 8-30-13; 8:45 am]

BILLING CODE 4910-59-P